DEPARTMENT OF TRANSPORTATION

Pipeline and Hazardous Materials Safety Administration

[PHMSA-2016-0158,Tennessee Gas Pipeline Company, LLC (TGP); PHMSA-2016-0159, Southern Natural Gas Company, LLC (SNG); PHMSA-2016-0160, El Paso Natural Gas Company, LLC (EPNG)]

Pipeline Safety: Request for Special Permit

AGENCY: Pipeline and Hazardous Materials Safety Administration (PHMSA), Department of Transportation.

ACTION: Notice.

SUMMARY: Pursuant to the Federal pipeline safety laws, PHMSA is publishing this notice of three special permit requests for Class Location 1 to Class Location 3 changes that PHMSA received from three natural gas pipeline operators, seeking relief from compliance with certain requirements in the Federal Pipeline Safety Regulations. This notice seeks public comments on the requests, including comments on any safety or environmental impacts that would result from the granting of these permits. At the conclusion of the 30-day comment period, PHMSA will evaluate the requests and determine whether to grant or deny a special permit.

DATES: Submit any comments regarding these special permit requests by June 5, 2017.

ADDRESSES: Comments should reference the docket number for the specific special permit request and may be submitted in the following ways:

• E-Gov Web site: http://www.Regulations.gov. This site allows the public to enter comments on any Federal Register notice issued by any agency.

• Fax: 1-202-366-4566.

• Mail: Docket Management System: U.S. Department of Transportation, Docket Operations, M-30, West Building Ground Floor, Room W12-140, 1200 New Jersey Avenue SE., Washington, DC 20590.

• Hand Delivery: DOT Docket Management System: U.S. Department of Transportation, Docket Operations, M-30, West Building Ground Floor, Room W12-140, 1200 New Jersey Avenue SE., Washington, DC 20590 between 9:00 a.m. and 5:00 p.m., Monday through Friday, except Federal holidays.

Instructions: At the beginning of your comments, you should identify the docket number for the special permit request you are commenting on. If you submit your comments by mail, please submit two copies. To receive confirmation that PHMSA has received your comments, please include a self-addressed stamped postcard. Internet users may submit comments in the respective docket located at http://www.Regulations.gov.

Note: Comments including any personal information provided are posted to http://www.Regulations.gov, without changes or edits. There is a privacy statement published on http://www.Regulations.gov.

FOR FURTHER INFORMATION CONTACT:

General: Ms. Kay McIver by telephone at (202) 366-0113 or email at kay.mciver@dot.gov.

Technical: Mr. Steve Nanney by telephone at (713) 628-7479 or email at steve.nanney@dot.gov.

SUPPLEMENTARY INFORMATION: PHMSA received the following Class 1 to Class 3 Location special permit requests. Each request includes a technical analysis and a Draft Environmental Assessment (DEA) provided by the respective operator. Each request has been assigned a separate docket number and is filed in the Federal Docket Management System at www.Regulations.gov. We invite interested persons to participate by reviewing these special permit requests and DEAs by submitting written comments, data, or other views. Please include any comments on potential safety or environmental impacts that may result, if the special permits are granted.

Before issuing a decision on the special permit requests, PHMSA will evaluate all comments received on or before the comments closing date. Comments received after the closing date will be evaluated, if it is possible to do so without incurring additional expense or delay. PHMSA will consider each relevant comment we receive in making our decision to grant or deny the requests.

Docket No. | Requester | Regulation(s) | Nature of special permit
PHMSA-2016-0158 | Tennessee Gas Pipeline Company, L.L.C. (TGP) | 49 CFR 192.611(a) and (d), and 192.619(a) | To authorize the TGP relief from §§ 192.611(a) and (d), and § 192.619(a), for 25 pipeline segments totaling 10.2 miles, where the area has changed from a Class 1 Location to a Class 3 Location. Instead of replacing the pipe, TGP proposes to establish enhanced integrity management (IM) procedures for threats such as corrosion, dents, cracking, coating damage, and third party damage, to maintain pipe integrity and protect both the public and the environment.
|  |  | All the proposed special permit segments would be treated as high consequence areas with the implementation of IM. All the pipeline segments were installed prior to 1980. The proposed special permit area covers multiple TGP interstate pipeline segments as follows: In the State of Louisiana, there are nine (9) segments of 24-inch, 30-inch, or 31-inch diameter pipelines located in the Parish of Sabine. All the segments operate at a maximum allowable operating pressure (MAOP) of 750 psig.
|  |  | One (1) segment of 26-inch diameter pipeline, located in the Parish of Ouachita, operates at a MAOP of 750 psig. One (1) segment of 24-inch diameter pipeline, located in the Parish of Iberia, operates at a MAOP of 973 psig.
|  |  | One (1) segment of 20-inch diameter pipeline, located in the Parish of Natchitoches, operates at a MAOP of 986. One (1) segment of 30-inch diameter pipeline, located in the Parish of Calcasieu, operates at a MAOP of 936 psig.
|  |  | In the State of Texas, there are three (3) segments of 30-inch or 31-inch diameter pipelines located in Harris County. All of these segments operate at a MAOP of 750 psig. In the State of Kentucky, there are two (2) segments of 26-inch diameter pipelines located in Montgomery County and one (1) segment of 30-inch diameter pipeline in Rowan County. All of these segments operate at a MAOP of 750 psig.
|  |  | In the State of New York, there are six (6) segments of 24-inch or 30-inch diameter pipelines located in Wyoming County. All of these segments operate at a MAOP of 878 psig. TGP is owned and operated by the Kinder Morgan Company.
PHMSA-2016-0159 | Southern Natural Gas Company, L.L.C. (SNG) | 49 CFR 192.611(a) and (d), and 192.619(a) | To authorize the SNG relief from §§ 192.611(a) and (d), and § 192.619(a), for three (3) pipeline segments totaling 0.23 miles, where the area has changed from a Class 1 Location to a Class 3 Location. Instead of replacing the pipe, SNG proposes to establish enhanced integrity management (IM) procedures for threats such as corrosion, dents, cracking, coating damage, and third party damage, to maintain pipe integrity and protect both the public and the environment.
|  |  | All the proposed special permit segments would be treated as high consequence areas with the implementation of IM. All of the pipeline segments were installed prior to 1980. The proposed special permit area includes multiple SNG interstate pipeline segments of 20-inch, 24-inch, or 26-inch diameter pipelines located in St. Tammany Parish in the State of Louisiana. All of these segments operate at a MAOP of 1200 psig. SNG is owned and operated by the Kinder Morgan Company.
PHMSA-2016-0160 | El Paso Natural Gas Company, L.L.C. (EPNG) | 49 CFR 192.611(a) and (d), and 192.619(a) | To authorize the EPNG relief from §§ 192.611(a) and (d), and § 192.619(a), for one (1) pipeline segment totaling 0.18 miles, where the area has changed from a Class 1 Location to a Class 3 Location. Instead of replacing the pipe, EPNG proposes to establish enhanced integrity management (IM) procedures for threats such as corrosion, dents, cracking, coating damage, and third party damage, to maintain pipe integrity and protect both the public and the environment.
|  |  | The proposed special permit segment would be treated as a high consequence area with the implementation of IM. The pipeline segment was installed prior to 1980. The proposed special permit area includes one (1) EPNG interstate pipeline segment of 20-inch diameter pipeline located in San Juan County in New Mexico. The pipeline operates at a MAOP of 894 psig. EPNG is owned and operated by the Kinder Morgan Company.

Authority: 49 U.S.C. 60118 (c)(1) and 49 CFR 1.97.

Issued in Washington, DC, on May 01, 2017, under authority delegated in 49 CFR 1.97.
Alan K. Mayberry,
Associate Administrator for Pipeline Safety.

[FR Doc. 2017-09050 Filed 5-4-17; 8:45 am]

BILLING CODE 4910-60-P